SECURITIES AND EXCHANGE COMMISSION

[File No. 500-1]

In the Matter of Super Nova Resources, Inc.; Order of Suspension of Trading

September 8, 2009.

It appears to the Securities and Exchange Commission that there is a lack of current and accurate information concerning the securities of Super Nova Resources, Inc. because questions have arisen regarding the trading in the company's stock, and the accuracy and adequacy of publicly available information concerning, among other things, the company's business operations.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on September 8, 2009, through 11:59 p.m. EDT, on September 21, 2009.

By the Commission.
Elizabeth M. Murphy,
Secretary.

[FR Doc. E9-21924 Filed 9-8-09; 11:15 am]

BILLING CODE 8010-01-P